DEPARTMENT OF COMMERCE

National Oceanic and Atmospheric Administration

RIN 0648-XI60

New England Fishery Management Council; Public Meeting

AGENCY: National Marine Fisheries Service (NMFS), National Oceanic and Atmospheric Administration (NOAA), Commerce.

ACTION: Notice; public meeting.

SUMMARY: The New England Fishery Management Council's (Council) Groundfish Oversight Committee will meet to consider actions affecting New England fisheries in the exclusive economic zone (EEZ).

DATES: The meeting will be held on Thursday, July 17, 2008 at 9 a.m.

ADDRESSES: Meeting address: The meeting will be held at the Holiday Inn, One Newbury Street, Route 1, Peabody, MA 01960.

Council address: New England Fishery Management Council, 50 Water Street, Mill 2, Newburyport, MA 01950.

FOR FURTHER INFORMATION CONTACT: Paul J. Howard, Executive Director, New England Fishery Management Council; telephone: (978)465-0492.

SUPPLEMENTARY INFORMATION: The items of discussion in the committee's agenda are as follows:

1. The Groundfish Oversight Committee will continue to develop Amendment 16 to the Northeast Multispecies Fishery Management Plan. Amendment 16 will adjust management measures as necessary to continue rebuilding of overfished groundfish stocks. The Committee will discuss measures for both the commercial and recreational components of the fishery at this meeting. The Committee will address questions raised by the Council concerning Committee proposals to develop specific allocations of six groundfish stocks to the recreational and commercial components of the fishery. The Committee will also discuss the implications of a recent Council proposal for managing Annual Catch Limits (ACLs) on these allocations. Other recreational issues that may be addressed include rationale for basing the allocation on different time periods, monitoring of recreational ACLs, and Accountability Measures (AMs) for the recreational fishery. The Committee will discuss several issues related to the commercial component of the fishery. These include monitoring requirements and a review of accountability measures for the commercial fishery. The Committee may also further discuss an effort control option raised at the June 2, 2008 Committee meeting an option that is based on a twenty-four hour clock and trip limits.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: June 19, 2008.
Tracey L. Thompson,
Acting Director, Office of Sustainable Fisheries, National Marine Fisheries Service.

[FR Doc. E8-14280 Filed 6-24-08; 8:45 am]

BILLING CODE 3510-22-S